NUCLEAR REGULATORY COMMISSION

[Docket No. 040-00017]

Notice of Consideration of Amendment Request for Dow Chemical Company's Radiation Safety Officer Change and Schedule Extension for Decommissioning of Bay City Site, and Opportunity for a Hearing

The U.S. Nuclear Regulatory Commission (NRC) is considering issuance of a license amendment (LA) to Material License No. STB-527 issued to The Dow Chemical Company (TDCC), to authorize change of the Radiation Safety Officer (RSO), and to extend the time schedule for decommissioning of its Bay City site, Bay City, Michigan.

TDCC submitted a letter dated June 1, 2000, which requested a license amendment to change the RSO. TDCC also submitted a letter dated May 23, 2000, requesting an extension of the deadline for completion of decommissioning until October 31, 2003.

These letters are treated as requests for license amendment. An NRC administrative review, documented in a letter to TDCC dated July 21, 2000, found the RSO change and the schedule extension requests acceptable to begin a technical review. If the NRC approves the RSO change and the schedule extension to October 31, 2003, the approval will be documented in a license amendment to NRC License No. STB-527. However, before approving the proposed amendment, the NRC will need to make findings required by the Atomic Energy Act of 1954, as amended, and NRC's regulations. These findings will be documented in a Safety Evaluation Report and an Environmental Assessment.

NRC hereby provides notice that this is a proceeding on two applications for license amendment of a license falling within the scope of Subpart L, “Informal Hearing Procedures for Adjudication in Materials Licensing Proceedings,” of NRC's rules of practice for domestic licensing proceedings in 10 CFR part 2. Pursuant to § 2.1205(a), any person whose interest may be affected by this proceeding may file a request for a hearing in accordance with § 2.1205(d). A request for a hearing must be filed within thirty (30) days of the date of publication of this Federal Register notice.

The request for a hearing must be filed with the Office of the Secretary either:

1. By delivery to: Secretary, U.S. Nuclear Regulatory Commission, One White Flint North, 11555 Rockville Pike, Rockville, MD 20852-2738; between 7:45 a.m. and 4:15 p.m. Federal workdays; or

2. By mail or facsimile addressed to: Secretary, U.S. Nuclear Regulatory Commission, Washington, DC 20555-0001. Attention: Rulemakings and Adjudications Staff.

In accordance with 10 CFR § 2.1205(f), each request for a hearing must also be served, by delivering it personally or by mail, to:

1. The applicant, The Dow Chemical Company, 1261 Building, Midland, Michigan 48667, Attention: Mr. Ben Baker, Project Manager; and

2. The NRC staff, by delivery to the Executive Director for Operations, U.S. Nuclear Regulatory Commission, One White Flint North, 11555 Rockville Pike, Rockville, MD 20852-2738, between 7:45 am and 4:15 p.m. Federal workdays; or by mail addressed to the Executive Director for Operations, U.S. Nuclear Regulatory Commission, Washington, DC 20555-0001.

In addition to meeting other applicable requirements of 10 CFR part 2 of NRC's regulations, a request for a hearing filed by a person other than an applicant must describe in detail:

1. The interest of the requester in the proceeding;

2. How that interest may be affected by the results of the proceeding, including the reasons why the requester should be permitted a hearing, with particular reference to the factors set out in § 2.1205(h):

3. The requester's areas of concern about the licensing activity that is the subject matter of the proceeding; and

4. The circumstance establishing that the request for a hearing is timely in accordance with § 2.1205(d).

FOR FURTHER INFORMATION CONTACT: The application for the LA and supporting documentation are available for inspection at NRC's Public Electronic Reading Room at http://www.nrc.gov/NRC/ADAMS/index.html. Questions with respect to this action should be referred to Sam Nalluswami, Decommissioning Branch, Division of Waste Management, Office of Nuclear Material Safety and Safeguards, U.S. Nuclear Regulatory Commission, Washington, DC 20555-0001; telephone: (301) 415-6694. Fax: (301) 415-5398.

Dated at Rockville, Maryland, this 10th day of August 2000.
For the Nuclear Regulatory Commission.
Larry W. Camper,
Chief, Decommissioning Branch, Division of Waste Management, Office of Nuclear Material Safety and Safeguards.

[FR Doc. 00-20841 Filed 8-15-00; 8:45 am]

BILLING CODE 7590-01-P